DEPARTMENT OF COMMERCE

National Oceanic and Atmospheric Administration

RIN 0648-XF353

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit (EFP) would allow one commercial fishing vessels to fish outside of the Northeast multispecies regulations in support of gear research to target healthy haddock and redfish stocks. Specifically, this EFP would require a temporary exemption from minimum mesh sizes, and possession limits to enabale catch sampling.

Regulations under the Magnuson-Stevens Fishery Conservation and Management Act require publication of this notification to provide interested parties the opportunity to comment on applications for proposed Exempted Fishing Permits.

DATES: Comments must be received on or before August 8, 2017.

ADDRESSES: You may submit written comments by any of the following methods:

• Email: nmfs.gar.efp@noaa.gov. Include in the subject line “GMRI Off-bottom Trawl EFP.”

• Mail: John K. Bullard, Regional Administrator, NMFS, Greater Atlantic Regional Fisheries Office, 55 Great Republic Drive, Gloucester, MA 01930. Mark the outside of the envelope “GMRI Off-bottom Trawl EFP.”

FOR FURTHER INFORMATION CONTACT: Emily Keiley, Fishery Management Specialist, 978-281-9116.

SUPPLEMENTARY INFORMATION: GMRI submitted a complete application for an EFP on April 27, 2017, in support of research associated with a 2016 Saltonstall-Kennedy Program project titled “Complementary testing of off-bottom trawls to target Georges Bank haddock.” The EFP requests the ability to use two sub-legal sized codends to target and haddock.

The overall goal of this project is to test the efficacy of an off-bottom trawl fitted with a small-mesh codend to access healthy haddock and redfish stocks while avoiding other groundfish stocks. Additional objectives include the development of a fuel-efficient trawl that also reduces disruption to benthic habitat. One vessel, the F/V Teresa Marie IV, would conduct a three-phase research plan to test the off-bottom trawl with two different codends: A 4.5-inch (11.43-cm) diamond mesh when targeting redfish, and a 5.1-inch (12.954-cm) square mesh when targeting haddock. The proposed off-bottom trawl would require an exemption from the Northeast multispecies minimum mesh size requirements at § 648.80(a)(3)(ii), because the codend and extension mesh size would be less than the minimum regulated mesh.

The 4.5-inch (11.43-cm) diamond mesh codend was previously authorized for use in the redfish exempted fishery, through a regulatory exemption to sectors, based on the results of previous redfish selectivity research (REDNET). This exemption has been modified a number of times in order to balance the conservation requirements, and economic goals of the fishery. In fishing year 2017, a 5.5-inch (14.0-cm) mesh was authorized within the redfish exemption area. During the REDNET study, substantial catches of redfish with low levels of incidental catch or bycatch of regulated species were observed when using a 4.5-inch (11.43-cm) mesh codend.

The square-mesh 5.1-inch (12.954-cm) codend was selected based on the Canadian haddock fishery, which uses a 5-inch (12.7-cm) square-mesh codend. The Canadian Department of Fisheries and Oceans has also conducted studies on the selectivity of various mesh sizes. This codend mesh size has been approved for use in a previous EFP issued to Atlantic Trawlers Fishing, Inc. Only a small number of trips were taken under that EFP, which limited the ability to produce statistically reliable results, but there were indications that haddock selectivity between the 5.1-inch (12.954-cm) square mesh codend and 6.5-inch (16.51-cm) diamond mesh codend were similar.

During Phase 1, the captain and crew of the F/V Teresa Marie IV would familiarize themselves with the operation of the off-bottom trawl. Testing would include how to deploy the trawl to a desired operating depth, maintain depth, adjust depth, and haul back. This phase would be carried out in August or September 2017 (Table 1). Five days-at-sea would be required for testing. Tow duration could be as short as 30 minutes or as long as 3 to 4 hours, depending on the outcome of the gear testing. Testing of the net, outfitted with the square-mesh 5.1-inch (12.954-cm) codend, would occur in open areas of Georges Bank (Statistical Areas 512, 513, and 515) for three days. Testing of the net, outfitted with the 4.5-inch (11.43-cm) codend, would occur in the redfish exemption area for two days. The off-bottom trawl would be equipped with Simrad and NOTUS sensors to provide acoustic images of the fishing circle, trawl geometry and height above the seabed, and fish entering the trawl. A GMRI research technician would be on board to conduct catch sampling and collect data on the performance of the net. The primary purpose of the trip is to demonstrate the ability to control net position within the water column and net geometry. Catch is likely to be minimal in this phase; many tows will be conducted in areas where limited catch is expected, as the purpose of this phase to optimize gear performance, not demonstrate catch composition. However, any legal-size groundfish catch would be retained for sale, consistent with the Northeast Multispecies Fishery Management Plan (FMP), and all catch would be attributed against the applicable sector Annual Catch Entitlement (ACE), consistent with standard catch accounting procedures.

In Phase 2, the off-bottom trawl would be evaluated during a 5-day controlled study on-board the F/V Teresa Marie IV conducted in August or September 2017 (Table 1). The off-bottom trawl would be tested at two towing speeds (3 and 4 kts) while actively fishing in order to represent normal working conditions. Testing of the net outfitted with the 5.1-inch (12.954-cm) square-mesh codend would occur in open areas of Georges Bank (Statistical Areas 512, 513, and 515) for 3 days-at-sea (DAS). Testing of the net outfitted with the 4.5-inch (11.43-cm) diamond codend would occur in the redfish exemption area for 2 days. Underwater cameras would be used to film the off-bottom trawl in operation, in conjunction with net mensuration equipment to examine the trawl geometry and clearance over the seabed, as well as the catch as it enters the trawl and reaches the codend. Catch would be retained for sale. Catch would be attributed against the applicable sector ACE, consistent with standard catch accounting procedures.

Phase 3 would test the off-bottom trawl using both codends under a wide range of commercial conditions to broadly characterize the fishing performance of the net. The off-bottom trawl would be fished from the F/V Teresa Marie IV. Phase 3 would include ten 8-day trips occurring from August through December 2017. Trips would be split between Georges Bank and the Gulf of Maine targeting haddock and redfish, respectively. Targeted redfish fishing, with the 4.5-inch (11.43-cm) codend, would only occur within the sector redfish exemption area (Table 1).

Table 1—Proposed EFP Trips
Phase | Number of trips | DAS per trip | Season | Location (statistical areas) | Target species
1 | 1 | 5 | August/September | 512, 513, 515 (3 days) 521, 522 (2 days) | Redfish. Haddock.
2 | 1 | 5 | August/September | 512, 513, 515 (3 days) 521, 522 (2 days) | Redfish. Haddock.
3 | 10 | 8 | August-October | 521, 522 (5 days) 512, 513, 515 (3 days) | Haddock. Redfish.
|  |  | October-December | 512, 513, 515 (5 days) 521, 522 (3 days) | Redfish. Haddock.

The applicant has stated that estimating anticipated catch for this project using the off-bottom trawl is a challenging exercise given a lack of historical evidence using a trawl of this design. Subsequently, catch from the Teresa Marie IV using a haddock separator trawl in fishing year 2016 was used to estimate anticipated catch using the off-bottom trawl. The average catch of haddock per trip was 5,500 pounds (2,495-kg) in the Gulf of Maine, 6,400 pounds (2,903-kg) in the Eastern U.S./Canada management area of Georges Bank, and 22,300 pounds (10,115-kg) in Georges Bank West. The average catch of redfish in the Gulf of Maine was 2,000 pounds (907-kg) per trip. The average catch of cod per trip was 180 pounds (82-kg) in the Gulf of Maine, 70 pounds (32-kg) in the Eastern U.S./Canada management area of Georges Bank, and 530 pounds (240-kg) in Georges Bank West. The off-bottom trawl is expected to catch at least as much haddock as a bottom trawl, with substantial reductions in cod catch, and the complete elimination of flatfish catch. If these ratios are not realized the applicant has indicated that the off-bottom trawl would be deemed unsuccessful and the project may be abandoned.

All trips would carry a GMRI sampler, an assigned at-sea observer, or an independently contracted data collection technician. In Phases 1 and 2, a GMRI sampler would be onboard to document the operational performance of the off-bottom trawl, and sample catch. In Phase 3, a GMRI sampler would be onboard the F/V Teresa Marie IV during at least two fishing trips. An assigned at-sea observer or independent contracted data collection technician would collect data during remaining trips with the off-bottom trawl. The volume of the catch is anticipated to be large, so subsampling protocols have been developed. The dimensions of the boats' checker pens would be measured. Catches emptied into these pens would be estimated by recording the depth of the catch in each pen. Efforts would be made to spread the catch evenly in these pens, and up to 10 measurements of catch depth would be recorded in each pen in random locations. This would provide an estimate of total catch volume. Legal-sized haddock are placed on a conveyor belt and then filleted. A subsample of the total catch would be taken from the checker pens to estimate total catch, including cod and other non-target species by weight. All fish in the subsample would be weighed, and length measurements would be taken for cod and other non-target catch. All bycatch would be returned to the sea as soon as practicable following data collection. Exemption from minimum sizes would support catch sampling activities, and ensure the vessel is not in conflict with possession regulations while collecting catch data. All trips would otherwise be conducted in a manner consistent with normal commercial fishing conditions and catch consistent with the Northeast Multispecies FMP would be retained for sale. Trips not accompanied by GMRI researchers would be required to carry an At-Sea Monitor (ASM), Northeast Fishery Observer Program (NEFOP) observer, or privately contracted data collection technician. On trips assigned to carry an ASM or observer by NEFOP, normal sampling protocols would be carried out. The vessel is responsible for notifying its monitoring provider of upcoming research trips and ensuring a research technician is present on all EFP trips not selected for observer coverage through Pre-trip Notification System (PTNS).

GMRI needs this exemption to allow them to conduct testing of a net configuration that is prohibited by the current regulations. If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 19, 2017.
Emily H. Menashes,
Acting Director, Office of Sustainable Fisheries, National Marine Fisheries Service.

[FR Doc. 2017-15487 Filed 7-21-17; 8:45 am]

BILLING CODE 3510-22-P